DEPARTMENT OF TRANSPORTATION

Federal Aviation Administration

Notice of Opportunity for Public Comment Equal Land Swap of .64 Acres at Tweed-New Haven Airport, New Haven, CT Withdrawal

AGENCY: Federal Aviation Administration (FAA), Transportation (DOT).

ACTION: Withdrawal of notice.

SUMMARY: Notice is being given that the FAA is withdrawing a Notice of Opportunity for Public Comment for the City of New Haven, CT to exchange a .64 acre parcel of land with an adjacent land owner of equal size and value at Tweed-New Haven Regional Airport. The exchange of land will provide the airport with the necessary land to build an extension of a parallel taxiway and vehicle service road that will serve the end of Runway 20. A Federal Register notice is not required for this specific action. The Notice, Document Number: 2020-17150, 85 FR 47838, Page 47838, was published in the Federal Register on August 6, 2020 and is currently on public inspection.

DATES: Comments must be received on or before September 3, 2020.

ADDRESSES: You may send comments using any of the following methods:

• Federal eRulemaking Portal: Go to http://www.regulations.gov, and follow the instructions on providing comments.

• Fax: 202-493-2251.

• Mail: U.S. Department of Transportation, Docket Operations, M-30, West Building Ground Floor, Room W 12-140, 1200 New Jersey Avenue SE, Washington, DC 20590.

• Hand Delivery: Deliver to mail address above between 9 a.m. and 5 p.m., Monday through Friday, except Federal holidays.

Interested persons may inspect the request and supporting documents by contacting the FAA at the address listed under FOR FURTHER INFORMATION CONTACT.

FOR FURTHER INFORMATION CONTACT: Mr. Jorge E. Panteli, Compliance and Land Use Specialist, Federal Aviation Administration New England Region Airports Division, 1200 District Avenue, Burlington, Massachusetts 01803. Telephone: 781-238-7618.

Issued in Burlington, Massachusetts, on August 12, 2020.
Julie Seltsam-Wilps,
Deputy Director, ANE-600.

[FR Doc. 2020-17930 Filed 8-14-20; 8:45 am]

BILLING CODE P